DEPARTMENT OF HEALTH AND HUMAN SERVICES

Centers for Disease Control and Prevention

[60Day-26-0765; Docket No. CDC-2025-0915]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Fellowship Management System (FMS). The Fellowship Management System is an information technology platform through which CDC invites and manages applications to CDC fellowship programs from potential fellows and host sites. FMS also is used by some programs to monitor fellows' progress.

DATES: CDC must receive written comments on or before February 3, 2026.

ADDRESSES: You may submit comments, identified by Docket No. CDC-2025-0915 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov. Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Fellowship Management System (FMS) (OMB Control No. 0920-0765, Exp. 03/31/2026)—Revision—National Center for State, Tribal, Local, and Territorial Infrastructure and Workforce (NCSTLTIW), Centers for Disease Control and Prevention (CDC).

Background and Brief Description

CDC's Division of Workforce Development (DWD) requests a three-year Revision to continue the use of the CDC Fellowship Management System (FMS) to collect data under the approved OMB Control No. 0920-0765. The mission of DWD is to provide leadership in public health training and education, and manage innovative, evidence-based programs to prepare the health workforce to meet public health challenges of the 21st century. Professionals in public health, epidemiology, medicine, economics, information science, veterinary medicine, nursing, public policy, and other related disciplines seek opportunities, through CDC fellowships, to broaden their knowledge and skills to improve the science and practice of public health. CDC fellows are assigned to state, tribal, local, and territorial public health agencies; federal government agencies, including CDC and Department of Health and Human Services' (HHS) operational divisions; and, in some cases, non-governmental organizations.

CDC uses FMS to collect, process, and manage data from nonfederal applicants seeking training or public health support services through CDC fellowships. FMS is used by CDC to electronically receive fellowship applications, receive fellowship host site proposals, and, for some programs, track completion of fellowship activities. FMS is a flexible, modern, secure, and robust electronic information system able to meet the unique needs of each CDC fellowship. The system is critical to efficient data and program management for CDC and essential for reducing burden and providing a high-quality user experience for respondents. FMS is key to CDC's ability to protect the public's health by facilitating training opportunities that strengthen the public health workforce.

The proposed Revision has two purposes: (1) streamline the fellowship management functions housed within FMS; and (2) update the time and respondent burdens. For the first purpose, all functions related to tracking fellowship alumni, and many functions related to tracking fellows' activities during their programs, are proposed for removal from the system. These functions are currently unnecessary, and in some cases, duplicative of other data management and collection processes. Embedding them in the new FMS platform was deemed not cost effective at this time. No other changes to the content of the FMS Application or Host Site Modules, or to the number and kind of fellowship programs that use this system, are included in this Revision request. However, the final information collection forms submitted as part of the 30-day Federal Register Notice for FMS may contain some minor content changes to those Modules. If so, these will be clearly enumerated and described beforehand in a formally submitted change request.

For the second purpose related to burden changes, this Revision proposes a modest decrease in total time burden. This is the result of more comprehensive estimations for fellow and host site applicants' respondent and time burdens, along with the changes related to streamlining the functions housed in the system. CDC determined that a thorough review of application submission trends and a series of pilot tests to better estimate time burden were warranted for this revision. The estimated burden per response for this revision request reflects the empirical results of application trends and pilot testing. For the FMS Application and Host Site Modules, the burdens based on the pilot test and feedback led to significant decreases in annual respondents and significant increases in estimated time burden per respondent. The time burden increases are conservative and more realistic and do not represent an increase in actual number or kind of questions asked. Below the detailed changes in time and respondents are outlined.

FMS Application Module: The estimated annual number of fellowship applicants is decreased in this request from 5286 to 2500 based on application submission trends from the most recent approval period. In accordance with a reduction in the number of applicants, a reduction in the number of reference letter requests is included as well. Based on the pilot test, in which CDC encouraged more comprehensive assessment of time needed to prepare and submit the information included in these applications, the average burden per response increased from 87 to 163 minutes.

FMS Host Site Module: As with the FMS Application Module, the revised number of host site applicants comes from FMS system reporting for the most recent approval period. New estimated annual number of host site applicants is decreased from 970 to 560 responses. Previously, estimates for the FMS Host Site Module's burden per response were based on the time it would take to fill out the form itself, assuming that responses were largely prepared or known ahead of time. The new estimate, created in part with feedback from former host site applicants, captures the true extent of burden imposed by discussing, drafting, reviewing, and submitting responses to these applications. Average burden per response is increased from 75 to 461 minutes.

FMS Activity Tracking Module: Given the significant reduction in the scope and use of this module, the estimated annual number of activity tracking respondents is decreased from 555 to 100. No change to time burden per response is requested, as CDC assessed the currently approved time burden to be a conservative, accurate estimate.

FMS Alumni Directory: Alumni Module is proposed for deactivation and thus has no burden in this Revision request.

Across these burden changes, compared to the currently approved burden of 13,477 hours annually, the new proposed burden is 12,655 hours. There are no costs to respondents other than their time to participate.

Estimated Annualized Burden Hours
Type of respondent | Form name | Number of respondents | Number of responses per respondent | Average burden per response (in hr) | Total burden (in hr)
Fellowship Applicants | FMS Application Module | 2,500 | 1 | 163/60 | 6,792
Reference Letter Writers | FMS Application Module | 5,000 | 1 | 15/60 | 1,250
Subset of FMS Fellowship Applicants (FMS Application Writing Samples) | FMS Application Module | 220 | 1 | 30/60 | 110
Public Health Agency or Organization Staff | FMS Host Site Module | 560 | 1 | 461/60 | 4,303
Public Health Agency or Organization Staff | FMS Activity Tracking Module | 100 | 2 | 30/60 | 200
Fellowship Alumni | FMS Alumni Directory | 0 | 1 | 37/60 | 0
Total |  |  |  |  | 12,655

Jeffrey M. Zirger,
Lead, Information Collection Review Office, Office of Public Health Ethics and Regulations, Office of Science, Centers for Disease Control and Prevention.

[FR Doc. 2025-22008 Filed 12-4-25; 8:45 am]

BILLING CODE 4163-18-P